OFFICE OF PERSONNEL MANAGEMENT

5 CFR Parts 511 and 532

RIN 3206-AH38

Classification Under the General Schedule and Prevailing Rate Systems

AGENCY: Office of Personnel Management.

ACTION: Direct final rule.

SUMMARY: The Office of Personnel Management (OPM) is issuing final regulations to remove obsolete references to OPM central and regional offices from its classification and job grading appeals regulations.

DATES: This rule is effective September 28, 2006 without further action, unless adverse comment is received by July 31, 2006. If adverse comment is received, OPM will publish a timely withdrawal of the rule in the Federal Register.

ADDRESSES: Send or deliver comments to Mark Doboga, Deputy Associate Director, Center for Talent and Capacity Policy, Strategic Human Resources Policy, U.S. Office of Personnel Management, Room 6551, 1900 E Street, NW., Washington, DC 20415-9700, e-mail to fedclass@opm.gov; or fax to (202) 606-4891. Comments may also be sent through the Federal eRulemaking Portal at http://www.regulations.gov. All submissions received through the Portal must include the agency name and docket number or Regulation Identifier Number (RIN) for this rulemaking.

FOR FURTHER INFORMATION CONTACT: Georgeanna Emery, by e-mail at fedclass@opm.gov, by telephone at 202-606-3600, or by fax at 202-606-4891.

SUPPLEMENTARY INFORMATION: The Office of Personnel Management (OPM) is publishing a direct final rule to make nonsubstantive revisions to parts 511 and 532 of title 5, Code of Federal Regulations. These revisions are necessary to remove obsolete references to OPM central and regional offices.

The specific sections of 5 CFR parts 511 and 532 to be revised are §§ 511.605(c), 511.613, 511.701(b)(2), 511.702(b), and 532.705(f). We are also revising the phrase “pay position” in the first sentence of paragraph (c) of § 511.702 to read “pay of the position.” Pursuant to 5 U.S.C. 553(B), solicitation of comments through the proposed rule process is not necessary due to the nonsubstantive nature of the amendments, i.e., changes in organizational titles and offices and a clerical error correction.

E.O. 12866, Regulatory Review

The Office of Management and Budget (OMB) has reviewed this rule in accordance with E.O. 12866.

Regulatory Flexibility Act

I certify that these regulations would not have a significant economic impact on a substantial number of small entities because they would apply only to Federal agencies and employees.

List of Subjects in 5 CFR Parts 511 and 532

Administrative practice and procedure, Freedom of Information, Government employees, Reporting and recordkeeping requirements, Wages.

Office of Personnel Management.
Linda M. Springer,
Director.

Accordingly, the Office of Personnel Management is amending parts 511 and 532 of title 5, Code of Federal Regulations, as follows:

PART 511—CLASSIFICATION UNDER THE GENERAL SCHEDULE

1. The authority citation for part 511 continues to read as follows:

Authority: 5 U.S.C. 5115, 5338, 5351.

Subpart F—Classification Appeals

2. Revise paragraph (c) of § 511.605 to read as follows:

§ 511.605 Time limits.

* * * * *

(c) Reconsideration. An employee or agency may request reconsideration of an Office appellate decision. The request must be in writing, and filed not later than 45 calendar days after the decision is issued. This time limit may be waived under exceptional circumstances by either the Director or the Director's designee.

3. Revise § 511.613 to read as follows:

§ 511.613 Appeals reconsideration by the Office.

The Office may, at its discretion, reopen and reconsider a certificate issued under this subpart.

(a) Requests which contain new and material information, or disagreements over the significance of information, will be remanded to the Director's designee for a decision.

(b) The Office may reopen and reconsider a decision only when written argument or evidence is presented which establishes a reasonable doubt concerning the technical accuracy of the decision.

Subpart G—Effective Dates of Position Classification Actions or Decisions

4. Revise paragraph (b)(2) of § 511.701 to read as follows:

§ 511.701 Effective dates generally.

* * * * *

(b) * * *

(2) The implementation of the certificate may be suspended when it is determined before its effective date that a review of the classification decision is warranted and suspension is desirable. The determination to suspend implementation may be made by the Director or the Director's designee. Suspending the implementation of a certificate does not automatically change the effective date except when the certificate requires that the grade or pay of the position be reduced and the employee is not entitled to retained grade or pay.

* * * * *

5. Revise paragraphs (b) and (c) of § 511.702 to read as follows:

§ 511.702 Agency or Office classification appeal decisions.

* * * * *

(b) The implementation of the decision may be suspended by the Office when it determines before the effective date that a review of the decision is warranted. The determination to suspend implementation may be made by the Director or the Director's designee. Suspending the implementation does not change the effective date of the decision except when the original decision requires that the grade or pay of the position be reduced and the employee is not entitled to grade or pay retention.

(c) When the original decision requires that the grade or pay of the position be reduced and the employee is not entitled to grade or pay retention, the reviewing authority, if sustaining the original decision, shall issue a new certificate and the effective date of the new certificate shall be not earlier than the date of the new decision and not later than the beginning of the fourth pay period following the date of the new decision, unless a subsequent date is specifically stated in the new decision.

PART 532—PREVAILING RATE SYSTEMS

6. The authority citation for part 532 continues to read as follows:

Authority: 5 U.S.C. 5343, 5346; § 532.707 also issued under 5 U.S.C. 552.

7. Revise paragraph (f) of § 532.705 to read as follows:

§ 532.705 Appeal to the Office of Personnel Management.

* * * * *

(f) The Office of Personnel Management may, at its discretion, reopen and reconsider any job-grading decision made by the Office when requested by an employee or an agency. This authority may be used under circumstances such as the following:

(1) An employee or an agency presents material facts not previously considered by the Office;

(2) There is room for reasonable doubt as to the appropriateness of the decision; or

(3) The potential impact of a decision on similar jobs is sufficiently significant to make further review of the decision desirable.

* * * * *

[FR Doc. 06-5891 Filed 6-29-06; 8:45 am]

BILLING CODE 6325-39-P